DEPARTMENT OF THE INTERIOR

Bureau of Land Management

[L14200000.BJ0000-LLNM915000-2009]

Notice of Filing of Plats of Survey, New Mexico, Oklahoma, Texas, and Kansas

AGENCY: Bureau of Land Management, Interior.

ACTION: Notice of filing of plats of survey.

SUMMARY: The plats of survey described below are scheduled to be officially filed in the New Mexico State Office, Bureau of Land Management (BLM), Santa Fe, New Mexico, 30 calendar days from the date of this publication.

SUPPLEMENTARY INFORMATION:

New Mexico Principal Meridian, New Mexico (NM)

The plat representing the dependent resurvey of a portion of the subdivisional lines, portions of the subdivision of sections, and a metes and bounds survey in section 20, Township 17 South, Range 30 East of the New Mexico Principal Meridian, New Mexico, accepted April 13, 2009, for Group 1075 NM.

The plat representing the dependent resurvey of the west and north boundaries and subdivisional lines, Township 14 North, Range 19 West of the New Mexico Principal Meridian, New Mexico, accepted March 26, 2009, for Group 1077 NM.

The plat representing the dependent resurvey of a portion of the east and south boundaries of the San Felipe Pueblo Grant and the subdivision of section 15, Township 13 North, Range 5 East of the New Mexico Principal Meridian, New Mexico, accepted May 21, 2009, for Group 1078 NM.

The plat representing the dependent resurvey of a portion of the Second Standard Parallel North, a portion of the subdivisional lines and the subdivision of sections 4 and 7, Township 8 North, Range 9 West of the New Mexico Principal Meridian, New Mexico, accepted May 28, 2009, for Group 1079 NM.

The plat, in three sheets, representing the dependent resurvey of a portion of the south and east boundaries, a portion of the subdivisional lines, and the metes and bounds survey in sections 13, 25, and 26, Township 8 North, Range 10 West of the New Mexico Principal Meridian, New Mexico, accepted May 28, 2009, for Group 1079 NM. The supplemental plat representing Township 30 North, Range 11 West of the New Mexico Principal Meridian, New Mexico, accepted May 28, 2009.

Indian Meridian, Oklahoma (OK)

The plat, in three sheets, representing the dependent resurvey of a portion of the boundary line between the States of Texas and Oklahoma, a portion of the subdivisional lines, the partition lines, and a portion of the adjusted 1875 meanders of the left bank of the Red River, Townships 5 and 6 South, Range 12 West of the Indian Meridian, Oklahoma, accepted May 8, 2009, for Group 85 OK.

The plat representing the dependent resurvey of a portion of the subdivisional lines, the subdivision of sections, and the metes and bounds survey in section 23, Township 12 North, Range 17 West of the Indian Meridian, Oklahoma, accepted December 9, 2008, for Group 60 OK.

The plat representing the dependent resurvey of a portion of the east boundary, the subdivisional lines, the metes and bounds survey, and the subdivision of section 24, Township 12 North, Range 17 West of the Indian Meridian, Oklahoma, accepted January 8, 2009 for Group 160 OK.

The supplemental plat representing Township 10 North, Range 23 East, of the Indian Meridian, Oklahoma, accepted April 29, 2009.

The supplemental plat representing Township 7 North, Range 10 West, of the Indian Meridian, Oklahoma, accepted May 21, 2009.

The Sixth Principal Meridian, Kansas (KS)

The plat representing the dependent resurvey of a portion of the east boundary and a portion of the subdivisional lines of section 24, Township 4 South, Range 15 East, Sixth Principal Meridian, Kansas, accepted March 26, 2009, for Group 31 KS.

The plat representing the dependent resurvey of certain center line intersections, of certain streets, adjacent to Block 15, and exterior lines, all within the Townsite of Horton, Township 4 South, Range 17 East, Sixth Principal Meridian, Kansas, accepted May 28, 2009, for Group 32 KS.

Texas (TX)

The plat representing the metes and bounds survey of the as-built center line, Brick Plant Road, sections 13, 20, 21, 22, and 23, Block 6 and sections 50, 51, and 52, Block 9, of the B. S. and F. Survey, Potter County Texas, accepted May 28, 2009 for Group 11 TX.

FOR FURTHER INFORMATION CONTACT: These plats will be available for inspection in the New Mexico State Office, Bureau of Land Management, P.O. Box 27115, Santa Fe, New Mexico, 87502-0115. Copies may be obtained from this office upon payment of $1.10 per sheet. Contact Marcella Montoya at 505-438-7537, or Marcella_Montoya@nm.blm.gov, for assistance.

Robert A. Casias,
Chief, Branch of Cadastral Survey.

[FR Doc. E9-13845 Filed 6-11-09; 8:45 am]

BILLING CODE 4310-FB-P